DEPARTMENT OF JUSTICE

Antitrust Division

Notice Pursuant to the National Cooperative Research and Production Act of 1993—Concrete Reinforcing Steel Institute

Notice is hereby given that, on March 29, 2013, pursuant to Section 6(a) of the National Cooperative Research and Production Act of 1993, 15 U.S.C. 4301 et seq. (“the Act”), Concrete Reinforcing Steel Institute (“CRSI”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is Concrete Reinforcing Steel Institute, Schaumburg, IL. The nature and scope of CRSI's standards development activities are developing and maintaining consensus standards for design, detailing, fabrication, placement, and construction of assemblies consisting of steel reinforcement and associated products used in concrete and masonry construction.

Patricia A. Brink,
Director of Civil Enforcement, Antitrust Division.

[FR Doc. 2013-09821 Filed 4-25-13; 8:45 am]

BILLING CODE P